DEPARTMENT OF STATE

[Public Notice: 11201]

Cultural Property Advisory Committee; Additional Meeting Agenda Item

AGENCY: Department of State.

ACTION: Notice.

SUMMARY: The Department of State is issuing this Notice to add an agenda item for the next meeting of the Cultural Property Advisory Committee, which will be held on October 27-29, 2020.

DATES: Meeting: The Cultural Property Advisory Committee (CPAC) will meet October 27-29, 2020, 10:00 a.m. to 5:00 p.m. (EDT). CPAC will hold an open session on October 27, 2020, at 2:00 p.m. (EDT). It will last approximately one hour.

Comments: The Committee will review your written comment if it is received by October 13, 2020, at 11:59 p.m. (EDT). For further instructions on submission of comments and participation, please see the previous Notice at 85 FR 51542.

FOR FURTHER INFORMATION CONTACT: For general questions concerning the meeting, contact Allison Davis, Bureau of Educational and Cultural Affairs—Cultural Heritage Center, by phone (202-632-6305) or email (culprop@state.gov).

SUPPLEMENTARY INFORMATION: The October 27-29, 2020, meeting of the Cultural Property Advisory Committee was announced in 85 FR 51542. This Notice adds an additional agenda item for that meeting.

In accordance with the Convention on Cultural Property Implementation Act (19 U.S.C. 2601 et seq.) (“the Act”), the Assistant Secretary of State for Educational and Cultural Affairs calls a meeting of the Cultural Property Advisory Committee (”the Committee”) (19 U.S.C. 2605(e)(2)). The Act describes the Committee's responsibilities. A portion of this meeting will be closed to the public pursuant to 5 U.S.C. 552b(c)(9)(B) and 19 U.S.C. 2605(h).

Addition to Meeting Agenda: The Committee will review the proposed extension of the cultural property agreement with the Government of the Republic of Bolivia. As previously announced (85 FR 51542), the Committee also will review proposed extensions of cultural property agreements with the Government of the Hellenic Republic and the Government of Nigeria.

Open Session Participation: The Committee will hold an open session of the meeting to receive oral public comments on Tuesday, October 27, 2020, from 2:00 p.m. to approximately 3:00 p.m. (EDT). We have provided specific instructions on how to participate or observe the open session at http://culturalheritage.state.gov. Further information about this meeting, and how to participate, are included in the previous Notice at 85 FR 51542. Include “Bolivia” in the subject line.

Allison R. Davis,
Executive Director, CPAC, Bureau of Educational and Cultural Affairs, Department of State.

[FR Doc. 2020-20155 Filed 9-11-20; 8:45 am]

BILLING CODE 4710-05-P